DEPARTMENT OF THE INTERIOR

Bureau of Indian Affairs

[223A2100DD/AAKC001030/A0A501010.999900]

Land Acquisitions; Tejon Tribe, Mettler Site, Kern County, California

AGENCY: Bureau of Indian Affairs, Interior.

ACTION: Notice.

SUMMARY: The Assistant Secretary—Indian Affairs made a final agency determination to acquire in trust 320.04 acres, more or less, of land known as the Mettler Site in Kern County, California, (Site) for the Tejon Indian Tribe, (Tribe) for gaming and other purposes.

DATES: This final determination was made on November 17, 2022.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 320.04 acres, more or less, in trust for the Tribe under the authority of the Indian Reorganization Act of June 18, 1934, 25 U.S.C. 5108.

The Assistant Secretary—Indian Affairs, on behalf of the Secretary of the Interior, will immediately acquire title to the Site in the name of the United States of America in trust for Tribe upon fulfillment of all Departmental requirements. The 320.04 acres, more or less, are described as follows:

Real Property in the Unincorporated Area of the County of Kern, State of California, Described as Follows

Parcel 1

The northeast quarter of Section 2, Township 11 North, Range 20 West, San Bernardino Meridian, in the unincorporated area of the County of Kern, State of California, according to the official plat thereof.

Also known as: Lot No. 1 and Lot No. 2, Section 2 as shown on the approved February 3, 1863 General Land Office official Plat of Township 11 North, Range 20 West, San Bernardino Meridian, in the unincorporated area of the County of Kern, State of California, according to the official plat thereof.

Parcel 2

The northeast quarter of the southeast quarter of Section 2, Township 11 North, Range 20 West, San Bernardino Meridian, in the unincorporated area of the County of Kern, State of California, according to the official plat thereof.

Parcel 3

The west half of the southeast quarter and the southeast quarter of the southeast quarter of section 2, township 11 north, range 20 West, San Bernardino Meridian, in the unincorporated area of the County of Kern, State of California, according to the official plat thereof.

Excepting therefrom all oil, gas, minerals and other hydrocarbon substances within or underlying said land, or that may be produced and saved therefrom, providing however, grantor, his successors and assigns shall not conduct drilling or other operations upon the surface of said land, but nothing herein contained shall be deemed to prevent the grantor, his successors and assigns, from extracting or capturing said minerals by drilling on adjacent or neighboring lands and/or from conducting subsurface drilling operations under said land at a depth of 100 feet below the surface of said land, so as not to disturb the surface of said land or any improvements thereon, as reserved by Chanslor-Western Oil and Development Company, a Delaware corporation, successor in interest to Chanslor-Canfield Midway Oil Company, a California corporation, in Deed recorded November 8, 1954, in Book 2317, Page 102, of Official Records.

Parcel 4

All that portion of section 11, township 11 north, range 20 west, San Bernardino Meridian, in the unincorporated area of the County of Kern, State of California, according to the official plat thereof described as follows:

Beginning at the northeast corner of said section 11, thence South 78°07′14″ West 184.02 feet to the true point of beginning; thence South 89°48′55″ West 40.00 feet; thence North 0°11′05″ West 40.00 feet; thence North 89°48′55″ East 40.00 feet; thence South 0°11′05″ East 40.00 feet to the true point of beginning.

Excepting therefrom all oil, gas, minerals and other hydrocarbon substances within or underlying said land as reserved by Kern County Land Company, in Deed dated October 3, 1945, recorded in Book 1283, Page 212, of Official Records.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2022-25618 Filed 11-22-22; 8:45 am]

BILLING CODE 4337-15-P